DEPARTMENT OF THE INTERIOR

Bureau of Land Management

[BLM_WY_FRN_MO4500172084; WYW-181596, WYW-189498, WYW-189521]

Notice of Realty Action: Classification for Lease and/or Conveyance for Recreation and Public Purposes of Public Lands in Teton County, Wyoming

AGENCY: Bureau of Land Management, Department of the Interior.

ACTION: Notice of realty action.

SUMMARY: The Bureau of Land Management (BLM), Pinedale Field Office, received an application from Teton County, Wyoming, for lease or conveyance of 36.26 acres comprised of three public land parcels (referred to as Map Parcels 13, 14, and 26) located along the Snake River under the authority of the Recreation and Public Purposes Act (RPPA) as amended, to support the County's development of recreational facilities that will help meet existing and future expanding recreational needs in Teton County. The BLM examined the public land and determined that the parcels are suitable for classification for lease and subsequent conveyance under the provisions of the RPPA, as amended.

DATES: Interested parties may submit written comments regarding the proposed classification for lease and conveyance of the land until October 27, 2023.

ADDRESSES: Mail written comments for the Teton County action to the BLM Pinedale Field Office, Field Manager, P.O. Box 768, 1625 West Pine Street, Pinedale, WY 82941 or via email to blm_wy_Pinedale_wymail@blm.gov.

FOR FURTHER INFORMATION CONTACT: Tracy Hoover at the Pinedale address, by telephone at (307) 367-5342, or by email at thoover@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The RPPA allows the BLM to lease or convey public lands to local governments for development of recreation facilities or other public purposes if the identified lands are not needed for any Federal purpose and the lease or conveyance are consistent with approved BLM land use plans. The Teton County parcels (Map Parcels 13 and 14, and 26) are located along the Snake River near Jackson, Wyoming, and are legally described as:

Sixth Meridian, Wyoming

T. 41 N., R. 117 W.,

Tracts 51A and 52A.

T. 40 N., R. 116 W.,

Sec. 34, lot 15.

The area described contains approximately 36.26 acres in Teton County, Wyoming.

Map Parcel 13, which consists of 10.94 acres, is currently authorized under a right-of-way, but facilities are not built yet. The proposed facilities are access roads, vehicle parking, recreation trails, boat ramp, and a wildlife migration corridor. The wildlife migration corridor involves coordination with Wyoming Department of Transportation (WYDOT) reconstruction of Highway 22. Map Parcel 13 would be completely developed within 5 years.

Map Parcel 14, which consists of 6.47 acres, is currently authorized under a right-of-way to build the current recreation facilities. Existing facilities on the parcel include a non-motorized pathway, recreational trails, vehicle parking, and access roads. A third (36%) of the parcel is currently encumbered by a highway and a utility right-of-way.

Map Parcel 26, which consists of 18.85 acres, is currently authorized under a right-of-way to build the current recreation facilities. Existing facilities on the parcel include vehicle circulation and parking areas, pedestrian and cyclist routes, park lawn, landscaping and irrigation, picnic shelters, park playground, public restroom facilities, kiosks, and a concrete plant ramp. Currently, the western portion is being utilized by WYDOT for a staging area for reconstruction of Highway 189/191. Teton County and WYDOT have an agreement for WYDOT to install an underpass pedestrian and vehicle tunnel. The western area will be developed once WYDOT has completed the highway project.

A map showing these parcels and additional detailed information pertaining to the environmental analysis, plan of development and site plan is available for review at the BLM Pinedale Field Office address in the ADDRESSES Section and at the BLM's ePlanning site at https://eplanning.blm.gov/eplanning-ui/project/2015655/510.

The proposed RPPA lease and subsequent conveyance is consistent with the BLM Snake River Resource Management Plan dated April 5, 2004. The lease and conveyance documents, if issued, would be subject to the provisions of the RPPA, including a reversionary clause and the following conditions:

1. a right-of-way thereon for ditches or canals constructed by the authority of the United States, Act of August 30, 1890 (43 U.S.C. 945);

2. all minerals, together with the right to prospect for, mine, and remove such deposits for the same under applicable law and such regulations as the Secretary of the Interior may prescribe;

3. terms or conditions required by law (including, but not limited to, any terms or conditions required by 43 CFR 2741.4, and as deemed necessary or appropriate by the Authorized Officer);

4. an appropriate indemnification clause protecting the United States from claims arising out of the lessee's/patentee's use, occupancy, or operations on the leased/patented lands; and

5. subject to valid existing rights.

Upon publication of this notice in the Federal Register, the land described above will be segregated from all other forms of appropriation under the public land laws, including the mining laws, except for lease and conveyance under the RPPA, leasing under the mineral leasing laws, and disposals under the mineral material disposal laws.

Interested parties may submit written comments regarding the specific use proposed in the applications, plans of development, site plans, and whether the BLM followed proper administrative procedures in reaching the decision to lease and convey under the RPPA. Comments may also address the suitability for classification of the lands for recreational facilities in Teton County and whether the land is physically suited for the proposal, whether the use will maximize the future use or uses of the land, whether the use is consistent with local planning and zoning, or if the use is consistent with State and Federal programs.

Before including your address, phone number, email, address, or other personal identifying information in your comment, you should be aware that your entire comment—including your personal identifying information—may be made publicly available at any time. While you can ask us in your comment to withhold your personal identifying information from public review, we cannot guarantee that we will be able to do so. Only written comments submitted to the Field Manager, BLM Pinedale Field Office, will be considered properly filed. Any adverse comments will be considered protests and will be reviewed by the BLM Wyoming State Director, who may sustain, vacate, or modify this realty action.

In the absence of any adverse comments, the decision will become effective on November 13, 2023. The lands will not be available for lease and conveyance until after the decision becomes effective.

(Authority: 43 CFR 2741.5.)

Andrew Archuleta,
Wyoming State Director.

[FR Doc. 2023-19636 Filed 9-11-23; 8:45 am]

BILLING CODE 4331-26-P